DEPARTMENT OF COMMERCE

International Trade Administration

[A-821-836]

Sodium Nitrite From the Russian Federation: Final Affirmative Determination of Sales at Less Than Fair Value

AGENCY: Enforcement and Compliance, International Trade Administration, Department of Commerce.

SUMMARY: The U.S. Department of Commerce (Commerce) determines that sodium nitrite from the Russian Federation (Russia) is being, or is likely to be, sold in the United States at less than fair value (LTFV) during the period of investigation (POI) January 1, 2021, through December 31, 2021.

DATES: Applicable September 12, 2022.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On June 28, 2022, Commerce published the Preliminary Determination in this LTFV investigation in the Federal Register.¹ Although we provided interested parties with an opportunity to comment on the Preliminary Determination, no interested party submitted comments. Accordingly, we did not make any changes to our Preliminary Determination and we there is no decision memorandum that accompanies this Federal Register notice.

¹ See Sodium Nitrite from the Russian Federation: Preliminary Affirmative Determination of Sales at Less Than Fair Value, 87 FR 38377 (June 28, 2022) (Preliminary Determination), and accompanying Preliminary Decision Memorandum.

Scope of the Investigation

The product covered by this investigation is sodium nitrite in any form, at any purity level, from Russia. For a full description of the scope of this investigation, see the appendix to this notice.

Use of Adverse Facts Available (AFA)

Pursuant to section 776(a) and (b) of the Tariff Act of 1930, as amended (the Act), we have continued to base the dumping margin for the sole mandatory respondent, Uralchem, JSC, upon facts otherwise available, with adverse inferences, because it failed to respond to Commerce's antidumping duty questionnaire.

All-Others Rate

As discussed in the Preliminary Determination, in the absence of a calculated estimated weighted-average dumping margin on the record of this investigation, Commerce has assigned the Petition ² rate of 207.17 percent to all other producers and exporters, pursuant to section 735(c)(5)(A) of the Act.

² See Chemtrade Chemicals US LLC's Letters “Sodium Nitrite from India and Russia: Antidumping and Countervailing Duty Petitions,” dated January 13, 2022 (Petition); and “Petition for the Imposition of Antidumping Duties on Imports of Sodium Nitrite from Russia: Responses to Second Supplemental Questions Regarding the Antidumping Duty Petition,” dated January 27, 2022, at Exhibit IV-34.

Final Determination

Commerce determines that the following estimated weighted-average dumping margins exist:

³ In the final determination in the companion countervailing duty (CVD) investigation, Commerce applied the AFA rate of 45.36 percent to each of the following export subsidy programs: (1) Preferential Lending by Sberbank to Restructure $3.99 Billion in Uralchem Debt; (2) State Financing for Industrial Export Projects; (3) Russian Export Center (REC) Lending; and (4) State Specialized Russian Export-Import Bank (Eximbank) Financing. We subtracted 181.44 percent, the sum of the export subsidy rates, from the estimated weighted-average dumping margin of 207.17 percent to derive the 25.73 percent cash deposit rate. See Sodium Nitrite from the Russian Federation: Final Affirmative Countervailing Duty Determination, 87 FR 38375 (June 28, 2022) (Final CVD Determination).

Exporter/producer | Estimated weighted- average dumping margin (percent) | Cash deposit rate adjusted for subsidy offset (percent) ³
Uralchem, JSC | 207.17 | 25.73
All Others | 207.17 | 25.73

Disclosure

Normally, Commerce discloses to parties to the proceeding the calculations performed in connection with a final determination within five days of any public announcement of the final determination or, if there is no public announcement, within five days of the date of publication of the notice of the final determination in the Federal Register, in accordance with 19 CFR 351.224(b). However, because Commerce based the sole respondent's dumping margin on the Petition rate, there are no calculations to disclose.

Continuation of Suspension of Liquidation

Commerce will direct U.S. Customs and Border Protection (CBP) to continue to suspend liquidation of entries of the merchandise described in the scope of this investigation where that merchandise was entered, or withdrawn from warehouse, for consumption on or after June 28, 2022, which is the date of publication of the Preliminary Determination in this investigation in the Federal Register. Pursuant to section 735(c)(1)(B)(ii) of the Act and 19 CFR 351.210(d), Commerce will also instruct CBP to require the posting of an antidumping duty cash deposit.

Commerce normally adjusts estimated weighted-average dumping margins determined in an LTFV investigation by the amount of the export subsidies countervailed in a companion countervailing duty (CVD) investigation to determine the antidumping duty cash deposit rates. Because there is a companion CVD investigation in this case,⁴ we offset the estimated weighted-average dumping margins listed in the table above by the appropriate export subsidy rate to derive the cash deposit rates listed in the table.

⁴ See Final CVD Determination.

Should the provisional measures in the companion CVD investigation expire prior to the expiration of provisional measures in this LTFV investigation, Commerce will direct CBP to begin collecting estimated antidumping duty cash deposits equal to the estimated weighted-average dumping margins listed in the table above.

The cash deposit requirements are as follows: (1) the cash deposit rate for Uralchem, JSC is the cash deposit rate listed for that company in the table above; (2) if the exporter of the subject merchandise is not identified in the table above, but the producer is, then the cash deposit rate will be equal to the company-specific cash deposit rate established for the producer of the subject merchandise; and (3) the cash deposit rate for all other producers and exporters will be equal to the all-others cash deposit rate listed in the table above.

These suspension of liquidation instructions will remain in effect until further notice.

U.S. International Trade Commission Notification

In accordance with section 735(d) of the Act, Commerce will notify the U.S. International Trade Commission (ITC) of its final affirmative determination of sales at LTFV. Because the final determination in this proceeding is affirmative, in accordance with section 735(b)(2) of the Act, the ITC will make its final determination as to whether the domestic industry in the United States is materially injured, or threatened with material injury, before the later of 120 days after the date that Commerce made its affirmative preliminary determination in this investigation or 45 days after the date of this final determination. If the ITC determines that material injury, or the threat of material injury, does not exist, the proceeding will be terminated, and all cash deposits will be refunded. If the ITC determines that material injury, or the threat of material injury, exists, Commerce will issue an antidumping duty order directing CBP to assess, upon further instruction by Commerce, antidumping duties on all imports of the subject merchandise, entered, or withdrawn from warehouse, for consumption on or after the effective date of the suspension of liquidation.

Notification Regarding Administrative Protective Order

This notice serves as the only reminder to parties subject to an administrative protective order (APO) of their responsibility concerning the disposition of proprietary information disclosed under APO in accordance with 19 CFR 351.305(a)(3). Timely notification of the return, or destruction, of APO materials, or conversion to judicial protective order, is hereby requested. Failure to comply with the regulations and the terms of an APO is a violation subject to sanction.

Notification to Interested Parties

This determination is being issued and published in accordance with sections 735(d) and 777(i) of the Act, and 19 CFR 351.210(c).

Dated: September 6, 2022.
Lisa W. Wang,
Assistant Secretary for Enforcement and Compliance.

Appendix

Scope of the Investigation

The product covered by this investigation is sodium nitrite in any form, at any purity level. In addition, the sodium nitrite covered by this investigation may or may not contain an anti-caking agent. Examples of names commonly used to reference sodium nitrite are nitrous acid, sodium salt, anti-rust, diazotizing salts, erinitrit, and filmerine. Sodium nitrite's chemical composition is NaNO2, and it is generally classified under subheading 2834.10.1000 of the Harmonized Tariff Schedule of the United States (HTSUS). The American Chemical Society Chemical Abstract Service (CAS) has assigned the name “sodium nitrite” to sodium nitrite. The CAS registry number is 7632-00-0. For purposes of the scope of this investigation, the narrative description is dispositive, not the tariff heading, CAS registry number or CAS name, which are provided for convenience and customs purposes.

[FR Doc. 2022-19655 Filed 9-9-22; 8:45 am]

BILLING CODE 3510-DS-P